ENVIRONMENTAL PROTECTION AGENCY

[FRL-6577-5]

Agency Information Collection Activities OMB Responses

AGENCY: Environmental Protection Agency (EPA).

ACTION: Notices.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR Chapter 15.

FOR FURTHER INFORMATION CONTACT: Sandy Farmer at 260-2740,or email at Farmer.sandy@epa.gov,and please refer to the appropriate EPA Information Collection Request (ICR) Number.

SUPPLEMENTARY INFORMATION:

OMB Responses to Agency Clearance Requests

OMB Approvals

EPA ICR No.1773.02; New and Amended Reporting and Recordkeeping Requirements for NESHAP from Hazardous Waste Combustors; in 40 CFR part 63, subparts A and EEE; was approved 02/25/2000; OMB No. 2060-0349; expires 02/28/2003.

(Note: EPA will request OMB to change OMB No. 2060-0349 to a 2050 series number since it is now the responsibility of the Office of Solid Waste).

EPA ICR No. 0275.07; Pre-award Compliance Review Report for All Applicants Requesting Federal Financial Assistance; in 40 CFR part 7; was approved 02/25/2000; OMB No. 2090-0014; expires 02/28/2003.

EPA ICR No. 1842.02; Notice of Intent for Storm Water Discharges Associated with Construction Activity under a NPDES General Permit; in 40 CFR part 122; was approved 03/01/2000; OMB No. 2040-0188; expires 03/31/2003.

EPA ICR No. 0318.08; Clean Water Needs Survey; was approved 03/02/2000; OMB No. 2040-0050; expires 12/31/2001.

EPA ICR No. 0827.05; Construction Grants Program; in 40 CFR part 35,subpart I; was approved 03/03/2000; OMB No. 2040-0027; expires 03/31/2003.

EPA ICR No. 0909.06; Construction Grants Delegation to States; in 40 CFR part 35, subpart J; was approved 03/03/2000; OMB No. 2040-0095; expires 03/31/2003.

EPA ICR No. 1898.02 Public Water System Supervision program Public Notification Requirements; in 40 CFR part 141; was approved 03/07/2000; OMB No. 2040-0209; expires 06/30/2002.

EPA ICR No. 1892.02; A Pilot Study of Children's Total Exposure to Persistent Pesticides and Other Persistent Organic Pollutants; in 40 CFR part 141; was approved 03/20/2000; OMB No. 2080-0061; expires 03/31/2003.

EPA ICR No. 1711.03; Voluntary Customer Service Satisfaction Survey; was approved 03/20/2000; OMB No. 2090-0019; expires 03/31/2003.

EPA ICR No. 1654.03; Reporting Requirements under EPA's Water Alliances for Voluntary Efficiency (WAVE) Program; was approved 03/27/2000; OMB No. 2040-0164; expires 03/31/2003

Extensions of Expiration Dates

EPA ICR No. 0011.09; Selective Enforcement Auditing and Record-keeping Requirements for On-Highway HDE, Non-road Compression Ignition Engines, and On-Highway Light-Duty Vehicles and Light-Duty Trucks; in 40 CFR part 90, subpart F; OMB No. 2060-0064; on 02/29/2000 OMB extended the expiration date through 08/31/2000.

EPA ICR No. 1001.06; Polychlorinated Biphenyls (PCBs) Exclusions, Exemptions, and Use Authorizations; in 40 CFR part 761; OMB No. 2070-0008; on 02/29/2000 OMB extended the expiration date through 08/31/2000.

EPA ICR No. 1774.01; Information Collection Activities Associated with EPA's Mobile Air Conditioner Retrofitting Program; in 40 CFR part 82; OMB No. 2060-0350; on 02/29/2000 OMB extended the expiration date through 05/31/2000.

EPA ICR No. 1710.02; Residential Lead-Based Paint Hazard Disclosure Requirements; in 40 CFR part 745, subpart F; OMB No. 2070-0151; on 02/29/2000 OMB extended the expiration date through 05/31/2000.

EPA ICR No. 0574.10; Premanufacture Review Reporting and Exemption Requirements for New and New Use Chemicals; in 40 CFR parts 720, 721, 723, and 725; OMB No. 2070-0012; on 02/29/2000 OMB extended the expiration date through 05/31/2000.

EPA ICR No. 1619.02; EPA Indoor Environmental Quality Questionnaire; OMB No. 2060-0244; on 02/29/2000 OMB extended the expiration date through 05/31/2000.

EPA ICR No. 1139.05; TSCA Section 4 Test Rules, Consent Orders and Test Rule Exemptions; in 40 CFR part 790; OMB No. 2070-0033; on 02/29/2000 OMB extended the expiration date through 05/31/2000.

EPA ICR No. 1381.05; Recordkeeping and Reporting Requirements for Solid Waste Disposal Facilities and Practices, Recordkeeping and Reporting Requirements; in 40 CFR part 258; OMB No. 2050-0122; on 03/01/2000 OMB extended the expiration date through 06/30/2000.

EPA ICR No.1717.02; NESHAP for Off-Site Waste and Recovery Operations; in 40 CFR part 63, subpart DD; OMB No. 2060-0313; on 03/02/2000 OMB extended the expiration date through 05/31/2000.

EPA ICR No. 0180.05; Emission Recall Audit Program Owner Questionnaire; in 40 CFR part 85, subparts S and T; OMB No. 2060-0046; on 03/09/2000 OMB extended the expiration date through 09/30/2000.

EPA ICR No. 1564.04; NSPS for Small Industrial-Commercial-Institutional Steam Generating Units; in 40 CFR part 60, subpart Dc; OMB No. 2060-0202; on 03/09/2000 OMB extended the expiration date through 06/30/2000.

EPA ICR No. 1084.05; Amendments to NSPS for Nonmetallic Mineral Processing Plants; in 40 CFR part 60, subpart OOO; OMB No. 2060-0050; on 03/09/2000 OMB extended the expiration date through 06/30/2000.

EPA ICR No. 0994.06; Beach Closing Survey Report on the Great Lakes; OMB No. 2090-0003; on 03/16/2000 OMB extended the expiration date through 09/30/2000.

EPA ICR No. 1427.05; National Pollutant Discharge Elimination System (NPDES) Compliance Assessment/Certification Information; in 40 CFR parts 122 and 501; OMB No. 2040-0110; on 03/16/2000 OMB extended the expiration date through 09/30/2000.

EPA ICR No. 1643.03; Amended Application Requirements for the Approval and Delegation of Federal Air Toxic Programs to State and Local Agencies; in 40 CFR part 63, subpart E; OMB No. 2060-0264; on 03/20/2000 OMB extended the expiration date through 05/31/2000.

EPA ICR No. 1157.05; NSPS for Flexible Vinyl and Urethane Coating and Printing; in 40 CFR part 60, subpart FFF; OMB No. 2060-0073; on 03/21/2000 OMB extended the expiration date through 06/30/2000.

EPA ICR No. 1596.04; Significant New Alternatives Policy (SNAP) Program under Title VI of the Clean Air Act Amendments of 1990; in 40 CFR part 82, subpart G; OMB No. 2060-0226; on 03/23/2000 OMB extended the expiration date through 07/31/2000.

EPA ICR No. 1160.05; NSPS for Wool Fiberglass Insulation Manufacturing Plants; in 40 CFR part 60.680, subpart PPP; OMB No. 2060-0114; on 03/23/2000; OMB extended the expiration date through 08/31/2000.

EPA ICR No. 1072.05; NSPS for Lead Acid Battery Manufacturing Plants, Recordkeeping and Reporting Requirements; in 40 CFR part 60, subpart KK; OMB No. 2060-0081; on 03/23/2000 OMB extended the expiration date through 06/30/2000.

Comments Filed

EPA ICR No. 1923.01; Radon in Drinking Water; on 03/03/2000 OMB filed comment.

EPA ICR No. 1922.01; Storage, Treatment, Transportation, and Disposal of Mixed Waste; on 03/13/2000 OMB filed comment.

Dated: April 7, 1000.
Oscar Morales,
Director, Collection Strategies Division.

[FR Doc. 00-9095 Filed 4-11-00; 8:45 am]

BILLING CODE 6560-50-U